DEPARTMENT OF STATE

[Public Notice: 11540]

Imposition of Additional Sanctions on Russia Under the Chemical and Biological Weapons Control and Warfare Elimination Act of 1991; Correction

ACTION: Notice.

SUMMARY: The Department of State published a document in the Federal Register of September 7, 2021, concerning sanctions and waivers under the Chemical and Biological Weapons Control and Warfare Elimination Act of 1991. One of the sanctions measures included an incorrect citation to the U.S. Munitions Import List.

FOR FURTHER INFORMATION CONTACT: Pamela K. Durham, Office of Missile, Biological, and Chemical Nonproliferation, Bureau of International Security and Nonproliferation, Department of State, Telephone (202) 647-4930.

SUPPLEMENTARY INFORMATION:

Correction:

In the Federal Register of September 7, 2021, in FR Doc. 2021-19117 on page 50204, in the first column, amend the “Import Restrictions” paragraph to correct the U.S. Munitions Import List citation to read “27 CFR 447.21”, as follows:

4. Import Restrictions: New or pending permit applications submitted to the Department of Justice, Bureau of Alcohol, Tobacco, Firearms and Explosives (ATF) for the permanent importation into the United States of firearms or ammunition, as defined on the U.S. Munitions Import List (27 CFR 447.21, Categories I and III), that are manufactured or located in the Russian Federation shall be denied in accordance with section 38 of the Arms Export Control Act (22 U.S.C. 2778) and Executive Order 13637. Consistent with authority delegated under Executive Order 12851, the Department of the Treasury has concurred with the imposition of this sanction and its implementation by ATF.

Choo S. Kang,
Acting Assistant Secretary, Bureau of International Security and Nonproliferation, Department of State.

[FR Doc. 2021-20645 Filed 9-23-21; 8:45 am]

BILLING CODE 4710-27-P